DEPARTMENT OF HEALTH AND HUMAN SERVICES

Administration for Children and Families

Proposed Information Collection Activity; Comment Request

Proposed Projects: Data Collection for some of the Children's Bureau Funded Discretionary Programs.

Title: Performance Measurement On-Line Tool (PMOTOOL).

OMB No.: New Collection.

Description: The Performance Measurement On-Line Tool (PMOTOOL) was designed by the Children's Bureau to collect data, in an automated format, from specified discretionary grants funded by the Children's Bureau. The data collected by this instrument will be submitted by individual discretionary grantees funded under the following programs: Abandoned Infants Assistance Program, Infant Adoption Awareness Program, Adoption Opportunities Program, Child Abuse and Neglect Program and the Child Welfare Training Program. Grantees will submit this information on a semi-annual basis in conjunction with their semi-annual program progress report.

The purpose of this data collection is to assist the Children's Bureau in using the aggregated data to examine the social impact or public benefit under each funded federal program. These measurable outcomes will serve as evidence that the federally funded programs are making progress toward achieving broad, legislated program goals.

Respondents: Selected clusters of competitive grant programs funded by the Children's Bureau.

Annual Burden Estimates
Instrument | Number of respondents | Number of responses per respondent | Average burden hours per response | Total burden hours
Performance Measurement On-Line Tool | Abandoned Infants Assistance Program Range 20-30 | 2 per fiscal year | One hour per response field | Range 40-60
Performance Measurement On-Line Tool | Infant Adoption Awareness Program Range 6 | 2 per fiscal year | One hour per response field | Range 12
Performance Measurement On-Line Tool | Adoption Opportunities Program Range 45-55 | 2 per fiscal year | One hour per response field | Range 90-110
Performance Measurement On-Line Tool | Child Abuse and Neglect Program Range 30-40 | 2 per fiscal year | One hour per response field | Range 60-80
Performance Measurement On-Line Tool | Child Welfare Training Program Range 40-50 | 2 per fiscal year | One hour per response field | Range 80-100

Estimated Total Annual Burden Hours: 282-350.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-4143 Filed 2-22-12; 8:45 am]

BILLING CODE 4184-01-P